DEPARTMENT OF STATE

[Public Notice 5214]

Shipping Coordinating Committee; Notice of Meeting

The Shipping Coordinating Committee (SHC) will conduct an open meeting at 10 a.m. on Tuesday, December 13, 2005 in room 6319 of the U.S. Coast Guard Headquarters building, 2100 Second Street, SW., Washington, DC 20593-0001. The primary purpose of the meeting is to prepare for the 50th Session of the International Maritime Organization (IMO) Subcommittee on Fire Protection to be held at IMO Headquarters in London, England from January 9-13, 2006. The meeting will also cover five agenda items on lifesaving equipment from the provisional agenda of the 49th session of the Subcommittee on Ship Design and Equipment that were assigned to the Subcommittee on Fire Protection because of the Ship Design and Equipment Subcommittee's excessive workload.

The primary fire protection matters to be discussed include:

—Passenger Ship Safety.

—Performance testing & approval standards for fire safety systems.

—Recommendations on evacuation analysis for new and existing passenger ships.

—Development of provisions for gas fueled ships.

—Measures to prevent fires in engine-rooms and cargo pump-rooms.

—Review of the SPS Code.

—Comprehensive review of the fire test procedures code.

—Analysis of fire casualty records.

The primary life saving matters to be discussed include:

—Measures to prevent accidents with lifeboats.

—Compatibility of life-saving appliances.

—Inconsistencies in IMO instruments regarding requirements for life-saving appliances.

—Test standards for extended service intervals of inflatable rafts.

—Amendments to resolution A. 761 (18).

Members of the public may attend this meeting up to the seating capacity of the room. Interested persons may seek information by writing: Chief, Office of Design and Engineering Standards, Commandant (G-MSE-4), U.S. Coast Guard Headquarters, 2100 Second Street, SW., Washington, DC 20593-0001, by calling: Mr. R. Eberly at (202) 267-1861, or by visiting the following World Wide Web site: http://www.uscg.mil/hq/g-m/mse4/imo.htm.

Dated: November 10, 2005.
Clay Diamond,
Executive Secretary, Shipping Coordinating Committee, Department of State.

[FR Doc. 05-22920 Filed 11-17-05; 8:45 am]

BILLING CODE 4710-09-P